DEPARTMENT OF ENERGY

Federal Energy Regulatory Commission

18 CFR Part 292

[Docket No. RM20-20-000]

Petition for Rulemaking of Bloom Energy Corporation; Correction

AGENCY: Federal Energy Regulatory Commission.

ACTION: Petition for rulemaking; correcting amendment.

SUMMARY: This document contains a correction to the Petition for rulemaking (RM18-20-000) which published in the Federal Register on Friday, September 18, 2020 (85 FR 58300). The docket number was incorrect. This document corrects the docket number in this proceeding as captioned above.

DATES: Comments due 5:00 p.m. Eastern time on September 8, 2020.

FOR FURTHER INFORMATION CONTACT: Lawrence Greenfield, Office of the General Counsel, Federal Energy Regulatory Commission, 888 First Street NE, Washington, DC 20426, (202) 502-6415, Lawrence.Greenfield@ferc.gov.

SUPPLEMENTARY INFORMATION: On August 19, 2020, the Commission issued a Petition for rulemaking informing that Bloom Energy Corporation submitted a petition for rulemaking requesting that the Commission clarify that the thermal energy output produced by a topping-cycle facility's solid oxide fuel cell system when used to reform methane and produce hydrogen for fuel for electricity generation by that facility is useful thermal energy output that would enable the facility powered by such fuel cells to be certified as a qualifying cogeneration facility, all as more fully explained in the petition.

Dated: August 21, 2020.
Nathaniel J. Davis, Sr.,
Deputy Secretary.

[FR Doc. 2020-21037 Filed 10-2-20; 8:45 am]

BILLING CODE 6717-01-P